MEDICARE PAYMENT ADVISORY COMMISSION

Commission Meeting

AGENCY: Medicare Payment Advisory Commission.

ACTION: Notice of meeting.

SUMMARY: The Commission will hold its next public meeting on Thursday, September 9, 2004, and Friday, September 10, 2004, at the Ronald Reagan Building, International Trade Center, 1300 Pennsylvania Avenue, NW., Washington, DC. The meeting is tentatively scheduled to begin at 10 a.m. on September 9, and at 9 a.m. on September 10.

Topics for discussion include initial findings on congressionally mandated studies including: specialty hospitals; certified registered nurse first assistants; physician practice expenses; risk adjustment and other issues related to the adjusted average per capita cost (AAPCC); and beneficiary cost sharing in private plans. Additional presentations will include analysis on post-acute care outcomes and state lessons from the Medicare prescription drug card program. The Commission will also discuss work plans for a study on skilled nursing facility quality measures and home health quality.

Agendas will be e-mailed approximately one week prior to the meeting. The final agenda will be available on the Commission's Web site (www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Mark E. Miller,
Executive Director.

[FR Doc. 04-19528 Filed 8-25-04; 8:45 am]

BILLING CODE 6820-BW-M